DEPARTMENT OF TRANSPORTATION

Federal Aviation Administration

14 CFR Part 71

[Docket No. FAA-2016-9265; Airspace Docket No. 16-ANM-11]

RIN 2120-AA66

Amendment of VOR Federal Airways V-235 and V-293 in the Vicinity of Cedar City, Utah

AGENCY: Federal Aviation Administration (FAA), DOT.

ACTION: Final rule.

SUMMARY: This action amends the legal description of the Very High Frequency Omnidirectional Range (VOR) Federal airways V-235 and V-293 in the vicinity of Cedar City, UT. The FAA is taking this action because the Cedar City VOR/DME, included as part of the V-235 and V-293 route structure, is being renamed the Enoch VOR/DME.

DATES: Effective date 0901 UTC, March 2, 2017. The Director of the Federal Register approves this incorporation by reference action under title 1, Code of Federal Regulations, part 51, subject to the annual revision of FAA, Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14 Code of Federal Regulations (14 CFR) part 71 by amending the legal description of VOR Federal airways V-235 and V-293, in the vicinity of Cedar City, UT. Currently, V-235 and V-293 have Cedar City, UT, [VOR/DME] included as part of their route structure. The Cedar City VOR and the Cedar City Airport share the same name, but are not co-located and are greater than 5 nautical miles apart. To eliminate the possibility of confusion, and a potential flight safety issue, the Cedar City VOR/DME is renamed the Enoch VOR/DME; and will have a new facility identifier (ENK). Airways with Cedar City, UT, [VOR/DME] included in their legal descriptions will be amended to reflect the name change. The name change of the VOR/DME will coincide with the effective date of this rulemaking action.

Domestic VOR Federal airways are published in paragraph 6010(a) of FAA Order 7400.11A dated August 3, 2016 and effective September 15, 2016, which is incorporated by reference in 14 CFR 71.1. The Domestic VOR Federal airways listed in this document will be published subsequently in the Order.

Since this action merely involves editorial changes in the legal description of a VOR Federal airway, and does not involve a change in the dimensions or operating requirements of that airspace, notice and public procedure under 5 U.S.C. 553(b) are unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act, and its agency implementing regulations in FAA Order 1050.1F, “Environmental Impacts: Policies and Procedures” regarding categorical exclusions for procedural actions at paragraph 5-6.5a, which categorically excludes from full environmental impact review actions that are rulemaking actions that designate or modify classes of airspace areas, airways, routes, and reporting points (see 14 CFR part 71, Designation of Class A, B, C, D, and E Airspace areas; Air Traffic Service Routes; and Reporting Points). This name change action which amends the legal description of the Very High Frequency Omnidirectional Range (VOR) Federal Airways V-235 and V-293 in the vicinity of Cedar City, UT is not expected to cause any potentially significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 is amended to read as follows:

Authority: 49 U.S.C. 106(f), 106(g); 40103, 40113, 40120; E.O. 10854, 24 FR 9565, 3 CFR, 1959-1963 Comp., p.389

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-235 [Amended]

From Peach Springs, AZ; Mormon Mesa, NV, via INT Mormon Mesa 059° and Enoch, UT, 197° radials; Enoch; Milford, UT; Delta, UT; Fairfield, UT; 10 miles, 15 miles, 135 MSL, 46 miles, 125 MSL; Fort Bridger, WY. From Rock Springs, WY; 20 miles, 41 miles, 92 MSL, 37 miles, 107 MSL; Muddy Mountain, WY; to Newcastle, WY.

* * * * *

V-293 [Amended]

From Grand Canyon, AZ, via Page, AZ; INT Page 340° and Bryce Canyon, UT; 120° radials; Bryce Canyon; Enoch, UT; 37 miles, 108 MSL Wilson Creek, NV; 5 miles, 108 MSL, 37 miles, 115 MSL, Ely, NV; 125 MSL Bullion, NV; 28 miles, 57 miles, 99 MSL, Twin Falls, ID; 37 miles, 33 miles, 87 MSL, 76 miles, 113 MSL, 99 MSL Donnelly, ID.

* * * * *

Issued in Washington, DC, November 29, 2016.
Leslie M. Swann,
Acting Manager, Airspace Policy Group.

[FR Doc. 2016-29143 Filed 12-5-16; 8:45 am]

BILLING CODE 4910-13-P